FEDERAL HOUSING FINANCE BOARD

12 CFR Part 997

[No. 2000-15]

RIN 3069-AA92

Determination of Appropriate Present-Value Factors Associated With Payments Made by the Federal Home Loan Banks to the Resolution Funding Corporation; Correction

AGENCY: Federal Housing Finance Board.

ACTION: Final rule; correction.

SUMMARY: The Federal Housing Finance Board (Finance Board) published in the Federal Register of April 3, 2000, a final rule implementing provisions of the Gramm-Leach-Bliley Act (Gramm-Leach-Bliley) that changed the methodology for determining the amount of the payments to be made by the Federal Home Loan Banks (Banks) to the Resolution Funding Corporation (REFCORP). The final rule omitted a reference to the value of an annuity, as referenced in Gramm-Leach-Bliley, in one section of the rule. This document corrects that omission.

EFFECTIVE DATES: Effective on June 30, 2000.

FOR FURTHER INFORMATION CONTACT: Thomas E. Joseph, Attorney-Advisor, (202) 408-2512, josepht@fhfb.gov, or by regular mail at the Federal Housing Finance Board, 1777 F Street, N.W., Washington, D.C. 20006. A telecommunication device for deaf persons (TDD) is available at (202) 408-2579.

SUPPLEMENTARY INFORMATION:

Need for Correction

In FR Doc. 00-8116, published in the Federal Register on April 3, 2000 (65 FR 17435), the Finance Board added new part 997 to its regulations to implement provisions of Gramm-Leach-Bliley, Pub. L. No. 106-102, 113 Stat. 1338, 1455-56 (Nov. 12, 1999) related to adjustments in the end-date for the statutorily required annual payments made by the Banks to REFCORP. In § 997.5 of this new part, the annual value of the annuity referenced in section 607 of Gramm-Leach-Bliley was inadvertently omitted. To avoid any confusion as to the meaning of the rule, this correction adds the relevant value to the final rule.

Correction of Publication

For the reasons set forth above, the Finance Board hereby corrects FR Doc. 00-8116, published in the Federal Register on April 3, 2000 (65 FR 17435) as follows.

§ 997.5 [Corrected]

1. On page 17438, in the third column, add to § 997.5, paragraph (a), line 8, the phrase “of $300 million per year” after the word “annuity.”

Dated: June 22, 2000.
By the Board of Directors of the Federal Housing Finance Board.
Bruce A. Morrison,
Chairman.

[FR Doc. 00-16543 Filed 6-29-00; 8:45 am]

BILLING CODE 6725-01-P